SMALL BUSINESS ADMINISTRATION

[Declaration of Disaster #3595]

State of Michigan; Amendment #1

In accordance with a notice received from the Department of Homeland Security—Federal Emergency Management Agency—effective July 22, 2004, the above numbered declaration is hereby amended to include Eaton, Muskegon, Saginaw, and Washtenaw Counties as disaster areas due to damages caused by severe storms, tornadoes, and flooding occurring on May 20 and continuing through May 24, 2004.

In addition, applications for economic injury loans from small businesses located in the contiguous county of Oceana in the State of Michigan may be filed until the specified date at the previously designated location. All other counties contiguous to the above named primary counties have previously been declared.

All other information remains the same, i.e., the deadline for filing applications for physical damage is August 30, 2004, and for economic injury the deadline is March 30, 2005.

(Catalog of Federal Domestic Assistance Program Nos. 59002 and 59008).
Dated: July 26, 2004.
Herbert L. Mitchell,
Associate Administrator for Disaster Assistance.

[FR Doc. 04-17434 Filed 7-29-04; 8:45 am]

BILLING CODE 8025-01-P